DEPARTMENT OF STATE

[Public Notice 11084]

30-Day Notice of Proposed Information Collection: Exchange Programs Alumni website Registration

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to April 29, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Patrick Kelly at the Bureau of Educational and Cultural Affairs; U.S. Department of State; SA-5, Room C2-C20; Washington, DC 20522-0503, who may be reached on 202-632-6186 or at KellyPW@state.gov.

SUPPLEMENTARY INFORMATION: • Title of Information Collection: Exchange Programs Alumni website Registration.

• OMB Control Number: 1405-0192.

• Type of Request: Revision of a Currently Approved Collection.

• Originating Office: Bureau of Educational and Cultural Affairs, ECA/P/A.

• Form Number: DS-7006.

• Respondents: Exchange program alumni and current participants of U.S. government-funded and U.S. government-facilitated exchange programs.

• Estimated Number of Respondents: 4,000 for full form, and 21,000 for expedited form.

• Estimated Number of Responses: 25,000.

• Average Time per Response: 10 minutes for response to the full form or 2 minutes for response to the expedited form.

• Total Estimated Burden Time: 1,367 hours.

• Frequency: One time per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The International Exchange Alumni website (alumni.state.gov) requires information to process users' voluntary request for participation in the International Exchange Alumni network. Other than contact and exchange program information, which is required for website registration, all other information is provided on a voluntary basis. Participants also have the option of restricting access to their information.

• Respondents to this registration form are U.S. government-funded and U.S. government-facilitated exchange program participants and alumni. The Office of Alumni Affairs collects data from users not only to verify their status or participation in a program, but to help alumni network with one another and aid Embassy staff in their alumni outreach. Once a user account is activated, the same information may be used for contests, competitions, and other public diplomacy initiatives in support of Embassy and foreign policy goals.

Methodology

Information provided for registration is collected electronically via the Alumni website, alumni.state.gov.

Additional Information

International Exchange Alumni is a secure, encrypted website.

Aleisha Woodward,
Deputy Assistant Secretary for Policy.

[FR Doc. 2020-06562 Filed 3-27-20; 8:45 am]

BILLING CODE 4710-05-P